DEPARTMENT OF AGRICULTURE

Agricultural Career and Employment Grants Program or “ACE”

AGENCY: Departmental Management, Office of Advocacy and Outreach, Agriculture.

ACTION: Funding opportunity announcement.

FOA No.: USDA2011ACE01.

Catalog of Federal Domestic Assistance (CFDA) No.: 10.465.

DATES: Proposals must be received by http://www.Grants.gov by 5 p.m. EST on Tuesday, November 14, 2011. Proposals received after this deadline will not be considered for funding.

SUMMARY: To improve the supply of skilled agricultural workers and bring greater stability to the workforce in this sector through provision of services specifically designed to assist farmworkers in securing, retaining, upgrading or returning from an agricultural job. The intended outcomes are that, as a result of the services to be provided, farmers will have access to a more skilled pool of workers and farmworkers who will have an enhanced skill set, making on-the-farm employment opportunities more plentiful.

The total funding for this competitive opportunity is $4,000,000. The U.S. Department of Agriculture's (USDA), Office of Advocacy and Outreach (OAO), anticipates awarding a total of approximately no less than 8 grants from this announcement, subject to availability of funds and the quality of applications received. A maximum award will be limited to $500,000.

Contents of This Announcement

Administrative Procedure Act Statement

I. Funding Opportunity Description

II. Award Information

III. Eligibility Information

IV. Application and Submission Information

V. Application Review Information

VI. Award Administration Information

VII. Agency Contact

VIII. Other Information

Administrative Procedure Act Statement

This Notice of Funds Availability (NOFA) is being issued without advance rulemaking or public comment. The Administrative Procedure Act (“APA”, 5 U.S.C. 553), has several exemptions to rulemaking requirements. Among them is an exemption for matters relating to federal benefits, but under the provisions of the “Statement of Policy of the Secretary of Agriculture effective July 24, 1971,” issued by Secretary Hardin in 1971 (36 FR 13804 (the “Hardin Memorandum”), the Department will normally engage in rulemaking related to federal benefits despite that exemption. However, the Hardin Memorandum does not waive certain other APA-contained exemptions, in particular the “good cause” exemption found at 5 U.S.C. 553(b)(3)(B), which allows effective government action without rulemaking procedures where withholding the action would be “impracticable, unnecessary, or contrary to the public interest.” The Hardin memorandum specifically provides for the use of the “good cause” exemption, albeit sparingly, when a substantial basis for so doing exists, and where, as will be described more fully below, that substantial basis is explained.

USDA has determined, consistent with the APA and the Hardin Memorandum, that making these funds available under this Notice to support farmworker training activities is in the public interest. Withholding this NOFA to provide for public notice and comment would unduly delay the provision of benefits associated with this program and be contrary to the public interest. Should the actual practice of the program produce reasons for program modifications, those modifications can be brought to the attention of the Department and changes made in the future rulemaking process.

I. Funding Opportunity Description

A. Background

Section 14204, of the Food Conservation and Energy Act of 2008, Public Law 110-246 (June 18th, 2008) 2008 Farm Bill, 7 U.S.C. 2008q-1 authorizes the Secretary of Agriculture to make grants to assist agricultural employers and farmworkers by improving the supply, stability, safety, and training of the agricultural labor force. Such grants may be made to eligible entities for use in providing services to assist farmworkers who are citizens or otherwise legally present in the United States in securing, retaining, upgrading, or returning from agricultural jobs. The 2010 Appropriations Act included an appropriation of $4 million to the USDA's Rural Housing Service (RHS) for this program, and the delegation of authority and funding for the program has since been transferred to OAO, within Departmental Management of USDA. OAO has designated the program the Agricultural Career and Employment (ACE) Grants Program and it will be referred to as such hereafter.

Purpose of the “ACE” Grants Program

As the title of Section 14204 of the 2008 Farm Bill suggests—“Grants to Improve the Supply, Stability, Safety, and Training of Agricultural Labor Force”—the ACE grants program is designed to address the needs of both agricultural employers and farmworkers with respect to the supply of skilled labor in American agriculture and the stability of employment in that sector. About 800,000 hired farmworkers are employed in U.S. agriculture, with hired workers making up an estimated one-third of the total agricultural labor force. Particularly critical for labor-intensive sectors of agriculture, such as fruits and vegetables, the hired agricultural labor force in the United States is characterized by considerable instability. Among the hired workforce are large numbers of migrant and seasonal farmworkers, many of whom travel long distances to obtain employment, and often move from crop to crop as conditions warrant. See Profile of Hired Farmworkers, A 2008 Update, by William Kandel, U.S. Department of Agriculture, Economic Research Service. This study can be found at http://www.ers.usda.gov/Publications/ERR60/.

Despite this regular flow of workers, regional differences in crops, variations in harvest times, and unpredictable weather conditions mean that many farm owners complain of chronic labor shortages, while farmworkers frequently report it is difficult to locate employment or obtain sufficient hours of work to earn a living. Unemployment rates among farmworkers generally are double those of other wage and salaried workers and those working in field crops have twice the unemployment rate of livestock workers. Historically, the uncertainty farmworkers have faced as to the availability or duration of work, along with the low wages generally earned by hired farm laborers, have led to many employed in the agricultural labor sector to leave agriculture for employment in other industries. Because of high turnover rates in agricultural employment, it is estimated that 2.0 to 2.5 individual farmworkers fill each job slot in the course of a year. This phenomenon has lead to chronic instability in the labor market and a shortage of skilled and experienced workers.

B. Scope of Work

The ACE grants program is intended to improve the supply of skilled agricultural workers and bring greater stability to the workforce in this sector. This stability will be realized through services specifically designed to assist farmworkers in securing, retaining, upgrading or returning from agricultural jobs. Such services include the following:

• Agricultural labor skills development;

• The provision of agricultural labor market information;

• Transportation;

• Short-term housing while in transit to an agricultural worksite;

• Workplace literacy and assistance with English as a second language;

• Health and safety instruction, including ways of safeguarding the food supply of the United States; and

• Other such services the Secretary deems appropriate.

C. Anticipated Outputs/Outcomes

1. Outputs. The term “output” means the creation or provision of services to assist farmworkers in securing, retaining, upgrading or returning from agricultural jobs. Outputs may be quantitative or qualitative but must be measurable during an assistance agreement funding period.

Examples of outputs from the projects to be funded under this announcement may include, but are not limited to, the following: Number of farmworkers served; number of farmworkers who attended conferences or trainings; number of conferences or training sessions held; or number of farmworkers completing labor skills programs or health and safety training programs.

2. Outcomes. The term “outcome” means the result, effect, or consequence that will occur from carrying out an outreach or assistance program or activity that is related to a programmatic goal or objective. Outcomes may be agricultural, behavioral, social, economic, or programmatic in nature. They may not necessarily be achievable within an assistance agreement funding period. Projects to be funded under this announcement are required to document anticipated outcomes, including but not limited to: Improvements in the supply, stability, safety and/or training of the agricultural labor force in a given geographic area or a given sector of the agricultural industry; an increase in the numbers of farmworkers in a given geographic area or agricultural sector who obtain skill-based certifications, licenses, or demonstrated competencies qualifying them for enhanced employment opportunities; the number of farmworkers in a given area who, as a result of program activities, advance to a position in agricultural employment which offers more hours of work and/or better terms and conditions of employment and/or an increase in wages; the number of farmworkers for whom English is not their first language who achieve, as a result of program activities, demonstrable improvements in workplace literacy in English; the establishment of new programs of health and safety instruction for farmworkers which, among other things, address ways of safeguarding the U.S. food supply; the establishment of new partnerships, networks or community support for services designed to assist farmworkers in securing, retaining, upgrading or returning from agricultural jobs, with the ultimate goal of improving the supply, stability, safety and training of the agricultural labor force.

3. Performance Measures. To be eligible for consideration for funding the applicant must develop performance measures they expect to achieve through the proposed activities. These performance measures will help gather insights and will be the mechanism to track progress concerning success process and outcome strategies and will provide the basis for developing lessons to inform future awardees. It is expected that the description of performance measures will include an estimate of the number of farmworkers served by the activities of the project including the assumptions used to make those estimates.

The following are questions to consider when developing output and outcome measures of quantitative and qualitative results:

• What are the measurable short term and longer term results the project will achieve?

• How does the plan measure progress in achieving the expected results (including outputs and outcomes) and how will the approach use resources effectively and efficiently?

• How will the results be achieved in the proposed timeline?

II. Award Information

A. Expected Amount of Funding

The total funding available for awards under this competitive opportunity is approximately $4,000,000.

B. Expected Number of Awards

OAO anticipates awarding no less than 8 grants from this announcement, subject to availability of funds and the quality of applications received. A maximum award will be limited to $500,000. OAO reserves the right to make additional awards under this announcement, consistent with Agency policy, if additional funding becomes available. Any additional selections for awards will be made no later than six months from the date of the original selection date.

C. Project Period

The estimated project period for awards resulting from this solicitation will begin April 2, 2012. Proposed project periods may be up to three years.

D. Award Type

The funding for selected projects will be in the form of a grant. Although OAO will negotiate precise terms and conditions relating to the degree of involvement under the grant agreement as part of the award process, the anticipated Federal involvement for these projects will be limited to the following activities:

• Approval of awardees' final budget and statement of work accompanying the grant agreement

• Monitoring of awardees' performance through quarterly and final progress reports

• Evaluating awardees' use of federal funds through quarterly and final financial reports

III. Eligibility Information

A. Eligible Entities

Entities eligible for awards are non-profit organizations or a consortium of entities comprised of a non-profit organization and one or more of the following: Agribusinesses, State and local governments, agricultural labor organizations, farmer or rancher cooperatives, and community-based organizations with the capacity to train farmworkers. The criteria by which an entity's capacity to train farmworkers will be evaluated, at a minimum, by the following items: (1) An understanding of the issues facing hired farmworkers and conditions under which they work; (2) familiarity with the agricultural industry in the geographic area to be served, including agricultural labor needs and existing services for farmworkers; and (3) the capacity to effectively administer a program of services and benefits authorized by the grants program.

B. Beneficiary Eligibility

Farmworkers who are citizens of the United States or are otherwise legally present in the United States and who meet the definition of “United States workers” established by the U.S. Department of Labor in its regulations at 20 CFR 655.4.

C. Credentials/Documentation

Grantees must have the financial, legal, administrative and operational capacity to carry out the objectives of the program. Grantees shall be responsible for verifying the employment of farmworkers who are actively employed and are seeking to participate in program services or benefits. Unemployed farmworkers seeking to participate shall be required to certify to grantees that they are eligible for program services and benefits.

D. Cost-Sharing or Matching

OAO does not require matching support for this program. Matching resources will not be factored into the review process as part of the evaluation criteria.

E. Threshold Eligibility Criteria

These are requirements that if not met by the time of proposal submission will result in the elimination of the proposal from consideration for funding. Only applications from eligible entities (see above) that meet all of these criteria will be evaluated in the proposal review process in Section V of this announcement. Applicants deemed ineligible for funding consideration as a result of the threshold eligibility review will be notified within 15 calendar days of the ineligibility determination.

i. Proposals must substantially comply with the proposal submission instructions and requirements set forth in Section IV of this announcement. Where a page limit is expressed in Section IV with respect to the narrative proposal, pages in excess of the page limitation will not be reviewed.

ii. Proposals must be received by OAO as specified in Section IV of this announcement on or before the proposal submission deadline published in Section IV of this announcement. Applicants are responsible for ensuring that their application reaches the designated person/office specified in Section IV of this announcement by the submission deadline.

iii. Proposals received after the submission deadline will be considered late and returned to the sender without further consideration unless the applicant can clearly demonstrate that it was late due to www.Grants.gov or USDA mishandling. Applicants may confirm receipt of their proposal with OAO after the submission deadline to ensure proposal review.

iv. Proposals will only be accepted via www.Grants.gov, except in extenuating circumstances such as trouble submitting electronically to that site or as determined by OAO.

v. Proposals must address one or more of the program areas that would provide farmworkers assistance in securing, retaining, upgrading or returning from an agricultural job.

vi. Proposals requesting federal funding exceeding $500,000 will be deemed ineligible and will not be considered for award.

IV. Application and Submission Information

A. Proposal and Submission Information

Applicants may download individual grant proposal forms from www.Grants.gov. For assistance with www.Grants.gov, please consult the Applicant User Guide (http://grants.gov/assets/ApplicantUserGuide.pdf).

B. Form of Proposal Submission

Applicants are required to submit proposals through www.Grants.gov. Applicants will be required to register through www.Grants.gov in order to begin the proposal submission process. Any applicant who experiences significant technical difficulty with www.Grants.gov should contact OAO as soon as possible to obtain an alternate method of electronic submission (i.e., e-mail).

Proposals must be submitted via http://www.Grants.gov by 5 p.m. EST on November 14, 2011. Proposals received after this deadline will not be considered for funding.

C. Content of Proposal Package Submission

All proposal submissions must contain completed and signed original application forms, as well as the Project Narrative and other required attachments, as described below.

1. Forms. The forms listed below can be found in the proposal package on www.Grants.gov.

• Standard Form 424, Application for Federal Assistance

• Standard Form 424A, Budget Information—Non-Construction Programs

• Standard Form 424B, Non-Construction Programs

2. Attachments. The elements listed below are included in the proposal package on www.Grants.gov as fillable PDF templates. Applicants must download and complete these attachments and save the completed PDF files to the application submission portal on www.Grants.gov. Note: Please number each page of each attachment and indicate the total number of pages per attachment (i.e., 1 of 10, 2 of 10, etc).

• Attachment 1: Project Summary. In 500 words or less, indicate the organizations or entities that will conduct the project, their eligibility, the geographical area served by the project, and the priority areas that will be addressed by the project. Please be concise.

• Attachment 2: Project Narrative. In 10 double-spaced pages or less (one-inch margins, 12-point font), discuss the merits of your proposed project. Specifically, it is critical that the proposal: (1) Explain how the project will assist employers and farmworkers by improving the supply, stability, safety and training of the agricultural labor force; (2) describe the way in which the services to be provided will assist farmworkers in securing, retaining, upgrading, or returning from an agricultural job); (3) identify the experience of the organization(s) taking part in the project; and (4) identify project performance measures, including an estimated number of farmworkers served, as described in Section I.C.;

• Attachment 3: Personnel. In 2 double-spaced pages or less per individual (one-inch margins, 12-point font), identify the qualifications, relevant experience, and knowledge of each Project Director or collaborator. Also, specifically discuss the roles and responsibilities of each person within the scope of work to be completed by the proposed project.

• Attachment 4: Budget Narrative. In an organized format identify and describe the costs associated with the proposed project, including subawards or contracts and indirect costs. Each cost indicated must be fully allowable under the Federal Cost Principles in order to be funded by the award.

• Attachment 5: Program of Work. In an organized format, map out the timeline for each task to be accomplished during the proposed project period. Identify the relationship of each task to a priority area. Examples of priority areas are listed under Section I.B.

D. Subawards and Partnerships

OAO awards funds to one eligible applicant as the awardee even if other eligible applicants are named as partners or co-applicants or members of a coalition or consortium. The awardee is accountable to OAO for the proper expenditure of funds, consistent with the OAO approved proposal.

E. Submission Dates and Times

The closing date and time for receipt of proposal submissions via www.Grants.gov is by 5 p.m., EST on Tuesday, November 15, 2011. Proposals received after the closing date and time will not be considered for funding.

F. Confidential Information

The names of entities submitting proposals, as well as proposal contents and evaluations, except to those involved in the review process, will be kept confidential to the extent permissible by law. If an applicant chooses to include confidential or proprietary information in the proposal, it will be treated in confidence to the extent permitted by law, provided that the information is clearly marked by the applicant with the term “confidential and proprietary information.”

G. Pre-Submission Proposal Assistance

OAO may not assist individual applicants by reviewing draft proposals or providing advice on how to respond to evaluation criteria. However, OAO will respond to questions from individual applicants regarding eligibility criteria, administrative issues related to the submission of the proposal, and requests for clarification about the announcement. Any questions should be submitted to christine.chavez@osec.usda.gov.

V. Application Review Information

A. Evaluation Criteria

Only eligible entities whose proposals meet the threshold criteria in Section III of this announcement will be reviewed according to the evaluation criterion set forth below. Applicants should explicitly and fully address these criteria as part of their proposal package submittal.

OAO will use a points system to rate each proposal, with a total of 100 points possible. Each proposal will be given a numerical score and will be rank-ordered according to that score. Preliminary funding recommendations will be provided to the designated approving official based on this ranking. Final funding decisions will be made by the designated approving official based on the rankings and preliminary recommendation of OAO review panel evaluations. In making final funding decisions, the designated approving official may also consider programmatic priorities and geographic diversity of applicants. Once final decisions have been made, a funding recommendation will be developed and forwarded to the Program Leader.

Criteria | Points
1. Project Narrative: Under this criterion, OAO will evaluate the extent and quality to which the narrative includes a well-conceived strategy for addressing the requirements and objectives stated Section I, Part B (Scope of Work) related to (i) (15 points) estimated number of farmworkers assisted in securing, training, retaining, upgrading and returning from an agricultural job Section I.B.; (ii) (15 points) the extent to which the proposal would bring together services for farmworkers and/or help build networks or partnerships to leverage resources to further program goals (iii) (10 points) estimate the number of farmworkers who will demonstrate improvements in workplace literacy in English (iv) (10 points) extent to which the applicant clearly demonstrates how they will ensure timely and successful completion of the project and whether the proposal sets forth a reasonable time schedule for execution of the tasks associated with the projects | 50
2. Anticipated Outcomes and Outputs: Under this criterion, OAO will evaluate: (i) (15 points) the effectiveness of the applicant's plan for tracking and measuring its progress toward achieving the expected project outputs and outcomes related to assisting farmworkers in securing, training, retaining, upgrading or returning from an agricultural job, such as those identified in Section I.C of this announcement | 15
3. Capability of Applicant: Under this criterion, applicants will be evaluated based on their ability to successfully complete and manage the proposed project taking into account the applicant's: (i) (5 points) past performance in successfully completing and managing prior funding agreements identified in Attachment 1 of the proposal as described in Section IV.C of the announcement; (ii) (10 points) organizational experience and plan for timely and successfully achieving the objectives of the proposed project; and (iii) (5 points) staff expertise/qualifications, staff knowledge, and resources or the ability to obtain them, to successfully achieve the goals of the proposed project | 20
4. Budget: Under this criterion, OAO will evaluate the proposed project budget to determine whether, (i) (10 points) costs are reasonable to accomplish the proposed goals, objectives, and measurable outcomes; and (ii) (5 points) the proposed budget provides a detailed breakdown of the approximate funding used for each major activity, including associated administrative expenses incurred by implementing the ACE grants | 15

B. Selection of Reviewers

Reviewers will be selected from within USDA based upon training and experience in relevant fields including, knowledge, experience and expertise in serving the needs of the farmworker community.

VI. Award Administration Information

A. Award Notices

Following evaluation of proposals, all applicants will be notified regarding their status.

B. Proposal Notifications and Feedback

1. OAO anticipates notification of the successful applicant will be made using one of the following methods via telephone, e-mail, or postal mail by October 30, 2011. The notification will advise the applicant that its proposed project has been successfully evaluated and recommended for award. The notification will be sent to the original signer of the SF-424, Application for Federal Assistance. This notification, which advises that the applicant's proposed project has been recommended for award, is not an authorization to begin work. The award notice signed by USDA grants officer is the authorizing document and will be provided through postal mail. At a minimum, this process can take up to 90 days from the date of recommendation.

2. OAO anticipates notification to unsuccessful applicants will be made via e-mail or postal mail by February 6, 2012. The notification will be sent to the original signer of the SF-424, Application for Federal Assistance.

3. Non-selected notification letters will contain information on how to obtain feedback. At OAO's discretion feedback will be either written or through oral debriefings. See Section VII for Agency Contact information.

C. DUNS Number and CCR Registration

In accordance with the Federal Funding Accountability and Transparency Act (FFATA) and the USDA implementation, all applicants must obtain and provide an identifying number from Dun and Bradstreet's Data Universal Numbering System (DUNS). Applicants can receive a DUNS number, at no cost, by calling the toll-free DUNS Number request line at 1-866-705-5711, or visiting the D&B Web site at http://www.dnb.com.

In addition, FFATA requires applicants to register with the Central Contractor Registry (CCR). This registration must be maintained and updated annually. Applicants can register or update their profile, at no cost, by visiting the CCR Web site at http://www.ccr.gov.

D. Reporting Requirement

The following reporting requirements will apply to awards provided under this FOA. OAO reserves the right to revise the schedule and format of reporting requirements as necessary in the award agreement.

1. Quarterly progress reports and financial reports will be required.

• Quarterly Progress Reports. The awardee must submit the OMB-approved Performance Progress Report form (SF-PPR, Approval Number: 0970-0334). For each report, the awardee must complete fields 1 through 12 of the SF-PPR. To complete field 10, the awardee should provide a brief narrative of project performance and activities, as described in the award agreement and in sample documents provided by OAO. Quarterly progress reports must be submitted to the designated OAO official within 30 days after the end of each calendar quarter.

• Quarterly Financial Reports. The awardee must submit the Standard Form 425, Federal Financial Report. For each report, the awardee must complete both the Federal Cash Transaction Report and the Financial Status Report sections of the SF-425. Quarterly financial reports must be submitted to the designated OAO official within 30 days after the end of each calendar quarter.

2. Final progress and financial reports will be required. The final progress report should include a summary of the project or activity, achievements of the project or activity, and a discussion of problems experienced in conducting the project or activity. The final financial report should consist of a complete SF-425 indicating the total costs of the project. Final progress and financial reports must be submitted to the designated OAO official within 90 days after the completion of the award period.

VII. Agency Contact

Attn: Christine Chavez, Program Leader, U.S. Department of Agriculture, Office of Advocacy and Outreach, 1400 Independence Avenue, SW., Whitten Building Room 533-A, Washington, DC 20250, Phone: (202) 205-4215, Fax: (202) 720-7136, Email: christine.chavez@osec.usda.gov.

VIII. Other Information

None.

Signed in Washington, DC, on October 14, 2011.
Pearlie S. Reed,
Assistant Secretary for Administration for the Office of the Secretary.

[FR Doc. 2011-27078 Filed 10-19-11; 8:45 am]

BILLING CODE 3412-89-P